DEPARTMENT OF STATE

[Public Notice 8622; Docket ID: DOS-2014-0003]

Notice of 30 Day Public Comment Period Regarding the National Interest Determination for TransCanada Keystone Pipeline, L.P.'s Presidential Permit Application

AGENCY: Department of State.

ACTION: Notice; Solicitation of Comments.

SUMMARY: TransCanada Keystone Pipeline, L.P. applied on May 4, 2012, to the U.S. Department of State (“State Department”) for a Presidential Permit that would authorize construction, connection, operation, and maintenance of pipeline facilities on the U.S./Canadian border in Phillips County, Montana for the importation of crude oil. The border facilities would be part of a proposed 875-mile pipeline and related facilities (the Keystone XL project) that is designed to transport up to 830,000 barrels per day of crude oil from Alberta, Canada and the Bakken shale formation in North Dakota and Montana. The pipeline would cross the U.S. border near Morgan, Montana and continue through Montana, South Dakota, and Nebraska, where it would connect to existing pipeline facilities near Steele City, Nebraska for onward delivery to Cushing, Oklahoma and the U.S. Gulf Coast region.

Background information related to the application may be found at http://www.keystonepipeline-xl.state.gov/. On January 31, 2014, the State Department released the Final Supplemental Environmental Impact Statement (“Final SEIS”) for the proposed Keystone XL project. The application and the Final SEIS, along with other documents, are available through the State Department's web address for the project shown above.

Executive Order 13337 (69 FR 25299) calls on the Secretary of State, or his designee, to determine if issuance of a Presidential Permit would serve the national interest. This decision will take into account a wide range of factors, including energy security; environmental, cultural, and economic impacts; foreign policy; and compliance with relevant federal regulations and issues.

The State Department invites members of the public to comment on any factor they deem relevant to the national interest determination that will be made for this permit application. Along with other factors such as those listed above, these comments will be considered in the final national interest determination. The public comment period will end 30 days from the publication of this notice.

Comments are not private. They will be posted on the site http://www.regulations.gov. The comments will not be edited to remove identifying or contact information, and the State Department cautions against including any information that one does not want publicly disclosed. The State Department requests that any party soliciting or aggregating comments received from other persons for submission to the State Department inform those persons that the State Department will not edit their comments to remove identifying or contact information, and that they should not include any information in their comments that they do not want publicly disclosed.

DATES: Comments must be submitted by no later than March 7, 2014, at 11:59 p.m. (EST).

ADDRESSES: For reasons of efficiency, the State Department encourages the electronic submission of comments through the federal government's eRulemaking Portal. To submit comments electronically, go to the Federal eRulemaking Portal (http://www.regulations.gov), enter the Docket No. DOS-2014-0003, and follow the prompts to submit a comment.

The State Department also will accept comments submitted in hard copy by mail and postmarked no later than March 7, 2014. Please note that standard mail delivery to the State Department can be delayed due to security screening. To submit comments by mail, use the following address: Bureau of Energy Resources, Room 4843, Attn: Keystone XL Public Comments, U.S. Department of State, 2201 C St. NW., Washington, DC 20520.

Dated: January 31, 2014.
Robin L. Dunnigan,
Director, Office of Europe, the Western Hemisphere and Africa, Bureau of Energy Resources, U.S. Department of State.

[FR Doc. 2014-02420 Filed 2-4-14; 8:45 am]

BILLING CODE 4710-02-P